DEPARTMENT OF TRANSPORTATION

National Highway Traffic Safety Administration; Highway Safety Programs

[Docket No. NHTSA-2007-0028]

Conforming Products List of Evidential Breath Alcohol Measurement Devices

AGENCY: National Highway Traffic Safety Administration, DOT.

ACTION: Notice.

SUMMARY: This notice updates the Conforming Products List (CPL) published in the Federal Register on June 29, 2006 (71 FR 37159) for instruments that conform to the Model Specifications for Evidential Breath Testing Devices (58 FR 48705).

DATES: Effective Date: December 17, 2007.

FOR FURTHER INFORMATION CONTACT: For technical issues: Ms. De Carlo Ciccel, Behavioral Research Division, NTI-131, National Highway Traffic Safety Administration, 1200 New Jersey Avenue, SE., Washington, DC 20590; Telephone; (202) 366-1694. For legal issues: Ms. Allison Rusnak, Office of Chief Counsel, NCC-113, National Highway Traffic Safety Administration, 1200 New Jersey Avenue, SE., Washington, DC 20590; Telephone: (202) 366-1834.

SUPPLEMENTARY INFORMATION: On November 5, 1973, the National Highway Traffic Safety Administration (NHTSA) published the Standards for Devices to Measure Breath Alcohol (38 FR 30459). A Qualified Products List of Evidential Breath Measurement Devices comprised of instruments that met this standard was first issued on November 21, 1974 (39 FR 41399).

On December 14, 1984 (49 FR 48854), NHTSA converted this standard to Model Specifications for Evidential Breath Testing Devices (Model Specifications), and published a Conforming Products List (CPL) of instruments that were found to conform to the Model Specifications as Appendix D to that notice (49 FR 48864).

On September 17, 1993, NHTSA published a notice to amend the Model Specifications (58 FR 48705) and update the CPL. That notice changed the alcohol concentration levels at which instruments are evaluated, from 0.000, 0.050, 0.101, and 0.151 BAC, to 0.000, 0.020, 0.040, 0.080, and 0.160 BAC. These devices are identified on the CPL with an asterisk. Additionally, that notice includes a test for the presence of acetone and an expanded definition of alcohol to include other low molecular weight alcohols; e.g., methyl or isopropyl. Thereafter, NHTSA has periodically updated the CPL with those breath instruments found to conform to the Model Specifications. The most recent update to the CPL was published June 29, 2006 (71 FR 37159).

The CPL published today adds 6 instruments that have been evaluated and found to conform to the Model Specifications, as amended on September 17, 1993, for mobile and non-mobile use. In alphabetical order by company, they are:

(1) Intoxilyzer 240 (aka: Lion Alcolmeter 400+, outside U.S.) manufactured by CMI, Inc., Owensboro, Kentucky. This is a handheld device intended for use in stationary or roadside operations. It uses a fuel cell sensor and is powered by 5 “AA” batteries.

(2) The “Alcotest 9510” manufactured by Draeger Safety, Inc., Durango, Colorado. This is a bench-top device intended for use in a stationary setting. It is AC-powered and has dual sensors. The Alcotest 9510 uses both a fuel cell sensor and a 9-micron infra-red type sensor to measure mouth alcohol.

(3) The “AlcoQuant 6020” manufactured by EnviteC by Honeywell GmbH, Fond du Lac, Wisconsin. This is a handheld device intended for use in stationary or roadside operations. It uses a fuel cell sensor and is powered by 4 “AA” batteries.

(4) The “EC-IR-II (Enhanced with serial numbers above 10,000)” manufactured by Intoximeters, Inc., St. Louis, Missouri. This is a bench-top, dual sensor device intended for stationary operations, and it is AC powered. This EC-IR-II uses a fuel cell sensor to determine breath alcohol concentration. The device also uses an infra-red type sensor to screen for mouth alcohol. The original EC-IR-II design was modified to incorporate additional test memory capacity, additional hardware to allow recirculation of a wet bath simulator, and enhanced EMC and RFI immunity. This model with the enhancements has an external and internal printer production option available.

(5) The “Phoenix 6.0” manufactured by Lifeloc Technologies, Inc., Wheat Ridge, Colorado. This is a handheld device that uses a fuel cell sensor and is powered by an internal battery. It is intended for stationary or roadside operations. The Phoenix 6.0 has the same core electronics, fuel cell, pump, and algorithms as the Lifeloc EV30. Enhancements of the Phoenix 6.0 include high resolution display, wireless printing, barometric pressure sensor (to assist with dry gas calibrations), and Easy Mode™ software to guide the user through the DOT testing protocol.

(6) The “ALC-PRO II (US)”, manufactured by Tokai-Denshi, Inc., Tokyo, Japan. This device is a handheld battery-powered breath tester with a fuel cell sensor. The breath tester is connected to a 10.5″ by 7.5″ by 5″ AC powered analytical unit. It is intended for stationary or roadside operations.

The CPL has been updated to include the six instruments identified above.

In accordance with the foregoing, the CPL is therefore updated, as set forth below

Conforming Products List of Evidential Breath Measurement Devices
Manufacturer and model | Mobile | Nonmobile
Alcohol Countermeasure Systems Corp, Mississauga, Ontario, Canada:
Alert J3AD* | X | X
Alert J4X.ec | X | X
PBA3000C | X | X
BAC Systems, Inc., Ontario, Canada:
Breath Analysis Computer* | X | X
CAMEC Ltd., North Shields, Tyne and Ware, England:
IR Breath Analyzer* | X | X
CMI, Inc., Owensboro, Kentucky:
Intoxilyzer Model:
200 | X | X
200D | X | X
240 (aka: Lion Alcolmeter 400+ outside the U.S.) | X | X
300 | X | X
400 | X | X
400PA | X | X
1400 | X | X
4011* | X | X
4011A* | X | X
4011AS* | X | X
4011AS-A* | X | X
4011AS-AQ* | X | X
4011 AW* | X | X
4011A27-10100* | X | X
4011A27-10100 with filter* | X | X
5000 | X | X
5000 (w/Cal Vapor Re-Circ.) | X | X
5000 (w/⅜” ID Hose option) | X | X
5000CD | X | X
5000CD/FG5 | X | X
5000EN | X | X
5000 (CAL DOJ) | X | X
5000VA | X | X
8000 | X | X
PAC 1200* | X | X
S-D2 | X | X
S-D5 (aka: Lion Alcolmeter SD-5 outside the U.S.) | X | X
Draeger Safety, Inc. (aka: National Draeger) Durango, Colorado:
Alcotest Model:
6510 | X | X
6810 | X | X
7010* | X | X
7110* | X | X
7110 MKIII | X | X
7110 MKIII-C | X | X
7410 | X | X
7410 Plus | X | X
9510 |  | X
Breathalyzer Model:
900 | X | X
900A* | X | X
900BG* | X | X
7410 | X | X
7410-II | X | X
EnviteC by Honeywell GmbH, Fond du Lac, Wisconsin:
AlcoQuant 6020 | X | X
Gall's Inc, Lexington, Kentucky:
Alcohol Detection System-A.D.S. 500 | X | X
Guth Laboratories, Inc., Harrisburg, Pennsylvania:
Alcotector BAC-100 | X | X
Alcotector C2H5OH | X | X
Intoximeters, Inc., St. Louis, Missouri:
Photo Electric Intoximeter* |  | X
GC Intoximeter MK II* | X | X
GC Intoximeter MK IV* | X | X
Auto Intoximeter* | X | X
Intoximeter Model:
3000 | X | X
3000 (rev B1)* | X | X
3000 (rev B2)* | X | X
3000 (rev B2A)* | X | X
3000 (rev B2A) w/FM option* | X | X
3000 (Fuel Cell)* | X | X
3000 D* | X | X
3000 DFC* | X | X
Alcomonitor |  | X
Alcomonitor CC | X | X
Alco-Sensor III | X | X
Alco-Sensor III (Enhanced with Serial Numbers above 1,200,000) | X | X
Alco-Sensor IV | X | X
Alco-Sensor IV-XL | X | X
Alco-Sensor AZ | X | X
Alco-Sensor FST | X | X
EC/IR | X | X
EC/IR II | X | X
EC/IR II (Enhanced with serial number 10,000 or higher) |  | X
Portable EC/IR II | X | X
RBT-AZ | X | X
RBT-III | X | X
RBT III-A | X | X
RBT IV | X | X
RBT IV with CEM (cell enhancement module) | X | X
Komyo Kitagawa, Kogyo, K.K., Japan:
Alcolyzer DPA-2* | X | X
Breath Alcohol Meter PAM 101B* | X | X
Lifeloc Technologies, Inc., (formerly Lifeloc, Inc.), Wheat Ridge, Colorado:
PBA 3000B | X | X
PBA 3000-P* | X | X
PBA 3000C | X | X
Alcohol Data Sensor | X | X
Phoenix | X | X
Phoenix 6.0 | X | X
EV 30 | X | X
FC 10 | X | X
FC 20 | X | X
Lion Laboratories, Ltd., Cardiff, Wales, United Kingdom:
Alcolmeter Model:
300 | X | X
400 | X | X
400+ (aka: Intoxilyzer 240 in the U.S.) | X | X
SD-2* | X | X
SD-5 (aka: S-D5 in the U.S.) | X | X
EBA* | X | X
Intoxilyzer Model:
200 | X | X
200D | X | X
1400 | X | X
5000 CD/FG5 | X | X
5000 EN | X | X
Luckey Laboratories, San Bernardino, California:
Alco-Analyzer Model:
1000* |  | X
2000* |  | X
National Patent Analytical Systems, Inc., Mansfield, Ohio:
BAC DataMaster (with or without the Delta-1 accessory)
BAC Verifier DataMaster (w/ or without the Delta-1 accessory) | X | X
DataMaster cdm (w/ or without the Delta-1 accessory) | X | X
DataMaster DMT | X | X
Omicron Systems, Palo Alto, California:
Intoxilyzer Model:
4011* | X | X
4011AW* | X | X
Plus 4 Engineering, Minturn, Colorado:
5000 Plus 4* | X | X
Seres, Paris, France:
Alco Master | X | X
Alcopro | X | X
Siemans-Allis, Cherry Hill, New Jersey:
Alcomat* | X | X
Alcomat F* | X | X
Smith and Wesson Electronics, Springfield, Massachusetts:
Breathalyzer Model:
900* | X | X
900A* | X | X
1000* | X | X
2000* | X | X
2000 (non-Humidity Sensor)* | X | X
Sound-Off, Inc., Hudsonville, Michigan:
AlcoData | X | X
Seres Alco Master | X | X
Seres Alcopro | X | X
Stephenson Corp:
Breathalyzer 900* | X | X
Tokai-Denshi Inc., Tokyo, Japan:
ALC-PRO II (US) | X | X
U.S. Alcohol Testing, Inc./Protection Devices, Inc., Rancho Cucamonga, California:
Alco-Analyzer 1000 |  | X
Alco-Analyzer 2000 |  | X
Alco-Analyzer 2100 | X | X
Verax Systems, Inc., Fairport, New York:
BAC Verifier* | X | X
BAC Verifier Datamaster | X | X
BAC Verifier Datamaster II* | X | X
*Instruments marked with an asterisk (*) meet the Model Specifications detailed in 49 FR 48854 (December 14, 1984) (i.e., instruments tested at 0.000, 0.050, 0.101, and 0.151 BAC.) Instruments not marked with an asterisk meet the Model Specifications detailed in 58 FR 48705 (September 17, 1993), and were tested at BACs = 0.000, 0.020, 0.040, 0.080, and 0.160. All instruments that meet the Model Specifications currently in effect (dated September 17, 1993) also meet the Model Specifications for Screening Devices to Measure Alcohol in Bodily Fluids.

(Authority: 23 USC 403; 49 CFR 150; 49 CFR Part 501).

Marilena Amoni,
Associate Administrator for the Office of Research and Program Development.

[FR Doc. 07-6040 Filed 12-14-07; 8:45 am]

BILLING CODE 4910-59-P